DEPARTMENT OF EDUCATION

Applications for New Awards; Perkins Innovation and Modernization Grant Program

AGENCY: Office of Career, Technical, and Adult Education, Department of Education.

ACTION: Notice.

SUMMARY: The Department of Education (Department) is issuing a notice inviting applications for new awards for fiscal year (FY) 2019 for the Perkins Innovation and Modernization Grant Program, Catalog of Federal Domestic Assistance (CFDA) number 84.051F. This notice relates to the approved information collection under OMB control number 1894-0006.

DATES:

Applications Available: April 15, 2019.

Deadline for Notice of Intent to Apply: Applicants are strongly encouraged, but not required, to submit a notice of intent to apply by May 15, 2019.

Date of Pre-Application Webinar: For information about a pre-application webinar or potential future webinars, visit the Perkins Collaborative Resource Network (PCRN) at http://cte.ed.gov/.

Deadline for Transmittal of Applications: June 14, 2019.

Deadline for Intergovernmental Review: August 13, 2019.

ADDRESSES: For the addresses for obtaining and submitting an application, please refer to our Common Instructions for Applicants to Department of Education Discretionary Grant Programs, published in the Federal Register on February 13, 2019 (84 FR 3768), and available at www.govinfo.gov/content/pkg/FR-2019-02-13/pdf/2019-02206.pdf.

FOR FURTHER INFORMATION CONTACT: Laura Messenger, U.S. Department of Education, 400 Maryland Avenue SW, Potomac Center Plaza (PCP), Room 11028, Washington, DC 20202-7241. Telephone: (202) 245-7840. Email: PerkinsIandMgrants@ed.gov.

If you use a telecommunications device for the deaf (TDD) or a text telephone (TTY), call the Federal Relay Service (FRS), toll-free, at 1-800-877-8339.

SUPPLEMENTARY INFORMATION:

Full Text of Announcement

I. Funding Opportunity Description

Purpose of Program: The purpose of the Perkins Innovation and Modernization Grant Program is to identify, support, and rigorously evaluate Evidence-Based ¹ and innovative strategies and activities to improve and modernize Career and Technical Education (CTE) and ensure workforce skills taught in CTE programs funded under the Carl D. Perkins Career and Technical Education Act of 2006, as amended by the Strengthening Career and Technical Education for the 21st Century Act (Perkins V or the Act) align with labor market needs.

¹ Throughout this notice, all defined terms are denoted with capitals.

Background: One of the most pressing tasks and most important opportunities facing America today is closing the Nation's workforce skills gap, while unleashing untapped talent where it is needed most. Although the U.S. labor market has strengthened over the last several years, as unemployment has reached historic lows,² business leaders continue to voice concerns about the gap between the skills needed to advance their companies, and those that many workers can offer today. The National Federation of Independent Business reported that 35 percent of small businesses were unable to find qualified applicants to fill job openings in January 2019.³ The U.S. Chamber of Commerce Foundation examined skills gaps on an occupation-by-occupation basis and detailed in a March 2018 report that more job openings than workers contributed to a skills gap of more than 4.4 million job openings. The skills gap was greatest in the health-care sector where over a million health-care jobs are unfilled for lack of qualified workers.⁴ The Department knows that there are many ways to validate that students have developed skills that employers need: Industry-recognized certificates, associates degrees, stackable credits and credentials, licenses, advanced degrees, four-year degrees, and apprenticeships. As Secretary DeVos has said, “We must also rethink education after high school and embrace the fact that a global economy demands a posture of lifelong learning . . . We must put to rest the notion that a traditional four-year degree is the only pathway to success.” ⁵

² The Employment Situation, U.S. Bureau of Labor and Statistics. (January 4, 2019). Retrieved from: www.bls.gov/news.release/pdf/empsit.pdf.

³ National Federation of Independent Business. Monthly Job Report (January 2019). Retrieved from: www.nfib.com/assets/jobs1218hw1.pdf.

⁴ Restuccia, D., Taska, B. and Bittle, S. “Different Skills, Different Gaps: Measuring & Closing the Skills,” March 2018. U.S. Chamber of Commerce Foundation. Retrieved from: www.uschamberfoundation.org/sites/default/files/Skills_Gap_Different_Skills_Different_Gaps_FINAL.pdf.

⁵ Devos, Betsy. Remarks to the House Education and the Workforce Committee, May 22, 2018. Retrieved from: www.ed.gov/news/speeches/prepared-remarks-us-secretary-education-betsy-devos-house-education-and-workforce-committee.

On July 31, 2018, President Trump signed the Strengthening Career and Technical Education for the 21st Century Act, reauthorizing the Carl D. Perkins Career and Technical Education Act of 2006. Perkins V recognizes the importance of developing employability skills through high-quality CTE programs and aligns several new key definitions to the Workforce Innovation and Opportunity Act (WIOA)(29 U.S.C. 3101 et seq.) and the Elementary and Secondary Education Act, as amended by the Every Student Succeeds Act (ESEA)(20 U.S.C. 6301 et seq.). For example, the new definition for CTE Programs of Study requires alignment with the needs of industry. State plans under Perkins V require consultation with employers, among others, and the local comprehensive needs assessment must include a description of how CTE programs are aligned to State, regional, or local in-demand industry sectors or occupations. Perkins V allows Eligible Recipients to build off of these new opportunities to redesign CTE programs to better prepare students for successful careers and to rethink and revitalize CTE delivery systems in the United States. One way we will support these efforts through the Perkins Innovation and Modernization Grant Program, funded under section 114(e) of Perkins V, is by awarding up to six competitive grants to Eligible Entities, Eligible Institutions, and Eligible Recipients to create, develop, implement, replicate, or take to scale Evidence-Based, field-initiated innovations that modernize CTE, increase program effectiveness and alignment, and improve student outcomes. Grant funds under this competition may be used for a broad range of approaches to innovation and modernization, and grantees agree to conduct a rigorous Independent Evaluation of their project.

The intent of the Perkins Innovation and Modernization Grant Program is to test new ideas that can help better prepare students for success in the workforce. Section 114(e)(1) of Perkins V requires the strategies and activities funded under this program to be not only innovative, but also Evidence-Based, using the definition of “evidence-based” from the ESEA. This definition includes four tiers of evidence that are distinguished from each other by the strength and extent of rigorous research on the effectiveness of an intervention: An Evidence-Based strategy or activity may be supported by strong evidence, moderate evidence, promising evidence, or evidence that Demonstrates a Rationale. For this competition, through the Absolute Priority, we require applicants to demonstrate that they meet the Demonstrates a Rationale evidence tier and provide a corresponding Logic Model. Evidence that Demonstrates a Rationale means a key Project Component of the proposed strategy or activity is informed by research or evaluation findings that suggest it is likely to improve Relevant Outcomes. This research may include favorable findings from an experimental study, a quasi-experimental design study, a correlational study with statistical controls for selection bias, or some other high-quality research study or evaluation. We consider Demonstrates a Rationale to be an appropriate level of evidence for this competition in order to invite the broadest possible range of innovative solutions to persistent problems in CTE.

Each applicant receiving a grant under this program must provide for an Independent Evaluation of the activities carried out under the grant. Consistent with 34 CFR 75.591, grantees also must cooperate in any evaluation of this program that may be carried out by the Department. Applicants must include an assurance in their applications that they will provide information to the Secretary, as requested, for evaluations that the Secretary may carry out.

In addition, to receive a grant under this program, an applicant must, through cash or in-kind contributions, provide matching funds from non-Federal sources in an amount equal to not less than 50 percent of the funds provided under such grant. Applicants may wish to partner with their Perkins State Eligible Agency ⁶ in order to pool fiscal and other resources, combine expertise, and coordinate project activities with the State's leadership activities funded under section 124 of Perkins V.

⁶ Applicants can identify their Perkins State Eligible Agency and contact information for that agency in the State profiles published on the Department's web page at https://cte.ed.gov/profiles/national-summary.

This competition includes three competitive preference priorities. We include a competitive preference priority for projects designed to improve student achievement or other education outcomes in science, technology, engineering, and math (STEM), generally, with an extra preference for projects designed to improve student achievement or other education outcomes in Computer Science, specifically. These competitive preferences are based on Priority 6—Promoting Science, Technology, Engineering, or Math (STEM) Education, With a Particular Focus on Computer Science, from the Secretary's Final Supplemental Priorities and Definitions for Discretionary Grant Programs, published on March 2, 2018 (83 FR 9096) (Secretary's Supplemental Priorities). Projects that address Computer Science may include those that focus on cybersecurity-related education, training, and apprenticeship programs, consistent with the Executive Order on Strengthening the Cybersecurity of Federal Networks and Critical Infrastructure,⁷ as well as coding. Preparing secondary and postsecondary CTE students for career opportunities in industries in the STEM sectors, such as advanced manufacturing and health care, is essential to promoting innovation and economic growth. Furthermore, STEM jobs that require less than a bachelor's degree pay higher wages than non-STEM jobs with similar educational requirements.⁸

⁷ Trump, Donald, J., Executive Order 13800, 82 FR 22391. (May 11, 2017).

⁸ Real-Time Insight into the Market for Entry-Level STEM Jobs, Burning Glass Technologies (2014). Retrieved from: www.burning-glass.com/wp-content/uploads/Real-Time-Insight-Into-The-Market-For-Entry-Level-STEM-Jobs.pdf.

We include a second competitive preference priority for projects that are designed to predominantly serve students from low-income families, consistent with the statutory requirement in section 114(e)(4) of the Act.

We also include a third competitive preference priority for projects that propose to serve students residing, or attending CTE programs, in Qualified Opportunity Zones. Qualified Opportunity Zones, established under the Tax Cuts and Jobs Act (Pub. Law 115-97), are economically-distressed communities that have been nominated by the Governor of each State and Chief Executive Officer of United States territories and the District of Columbia and that have been certified by the U.S. Secretary of the Treasury. Effectively addressing the education and skill needs of students in Opportunity Zones is central to improving the economic circumstances of these communities. It will also help ensure that community members are trained and ready to assume the new jobs that will be created by the infusion of capital in these local job markets. The Department believes the opportunities for innovative approaches to CTE available through this competition have the potential to improve economic opportunity in economically-distressed communities.

Finally, consistent with section 114(e)(5) of Perkins V, the Department plans to award at least 25 percent of the available funds to applicants serving eligible rural communities, contingent on our receipt of a sufficient number of applications of sufficient quality. Improving access to education and training in rural communities is one of the priority recommendations of the Interagency Task Force on Agriculture and Rural Prosperity that was established by President Trump through Executive Order 13790.⁹

⁹ Report to the President of the United States from the Task Force on Agriculture and Rural Prosperity (2017). Retrieved at: www.usda.gov/sites/default/files/documents/rural-prosperity-report.pdf.

Priorities: This notice contains one absolute priority, three competitive preference priorities, and one invitational priority. We are establishing the absolute priority and Competitive Preference Priorities 1, 2, and 3 for the FY 2019 grant competition and any subsequent year in which we make awards from the list of unfunded applications from this competition, in accordance with section 437(d)(1) of the General Education Provisions Act (GEPA), 20 U.S.C. 1232(d)(1).

Absolute Priority: This priority is an absolute priority. Under 34 CFR 75.105(c)(3), we consider only applications that meet this priority.

This priority is:

Plan for Evidence-Based Field-Initiated Innovations.

To meet this priority, applicants must submit a plan to create, develop, implement, replicate, or take to scale Evidence-Based, field-initiated innovations to modernize and to improve effectiveness and alignment of CTE with labor market needs and to improve student outcomes in CTE.

The plan must include the following information:

(a) A description of how the proposed project will carry out one or more of the allowable activities under section 114(e)(7) of Perkins V, detailed in Program Requirement 2: Use of Funds, and how the proposed project is designed to create, develop, implement, replicate, or take to scale Evidence-Based, field-initiated innovations to modernize and improve effectiveness and alignment of CTE with labor market needs and to improve student outcomes in CTE;

(b) A detailed description of the key goals, the activities to be undertaken, including the Independent Evaluation, the rationale for selecting those activities, the timeline, and the parties responsible for implementing the activities; and

(c) A description of how the proposed project Demonstrates a Rationale, including the corresponding Logic Model.

Competitive Preference Priorities: These priorities are competitive preference priorities. Under 34 CFR 75.105(c)(2)(i), we award an additional 3 points to an application that meets Competitive Preference Priority 1(a), and we award an additional 2 points to an application that meets Competitive Preference Priority 1(b), as applicable. We award up to an additional 3 points to an application, depending on how well the application meets Competitive Preference Priority 2, and we award an additional 2 points to an application that meets Competitive Preference Priority 3.

The total maximum points we may award an application that chooses to address all of the Competitive Preference Priorities is 10.

These priorities are:

Competitive Preference Priority 1—Promoting STEM Education and Computer Science Education.

Projects designed to improve student achievement or other education outcomes in one or more of the following areas: Science, technology, engineering, math and Computer Science. An applicant must address Competitive Preference Priority 1(a) or both Competitive Preference Priority 1(a) and Competitive Preference Priority 1(b):

Competitive Preference Priority 1(a)—Promoting STEM Education (three points).

Projects designed to improve student achievement or other education outcomes in one or more of the following areas: Science, technology, engineering, and math. These projects must address one or more of the following priority areas:

(a) Increasing access to STEM coursework, and hands-on learning opportunities, such as through expanded course offerings, dual-enrollment, high-quality online coursework, or other innovative delivery mechanisms.

(b) Creating or expanding partnerships between schools, local educational agencies (LEAs), State educational agencies (SEAs), businesses, not-for-profit organizations, or Institutions of Higher Education (IHEs) to give students access to internships, apprenticeships, or other Work-Based Learning experiences in STEM fields.

(c) Supporting programs that lead to Recognized Postsecondary Credentials or skills that align to the skill needs of industries in the State or regional economy for careers in STEM fields.

Competitive Preference Priority 1(b)—Promoting Computer Science Education (two points).

Projects designed to improve student achievement or other education outcomes in Computer Science. These projects must address one or more of the following priority areas:

(a) Increasing access to Computer Science coursework, and hands-on Computer Science learning opportunities, such as through expanded course offerings, dual-enrollment, high-quality online coursework, or other innovative delivery mechanisms.

(b) Creating or expanding partnerships between schools, LEAs, SEAs, businesses, not-for-profit organizations, or IHEs to give students access to Computer Science internships, apprenticeships, or other Work-Based Learning experiences in Computer Science fields.

(c) Supporting programs that lead to Computer Science Recognized Postsecondary Credentials or skills that align with the skill needs of industries in the State or regional economy for careers in Computer Science.

Competitive Preference Priority 2—Serving Students from Low-Income Families (up to 3 points).

Projects designed to predominantly serve students from low-income families.

To meet this priority, applicants must submit a plan in which the students the applicant proposes to serve are predominantly from low-income families.

The plan must include—

(a) The specific activities the applicant proposes to ensure that the project will predominantly serve students from low-income families;

(b) The rationale for how the proposed activities will result in projects in which the students to be served are predominantly students from low-income families;

(c) The timeline for implementing the activities;

(d) The parties responsible for implementing the activities; and

(e) The key data sources and measures demonstrating that the project is designed to predominantly serve students from low-income families.

Note: These data sources and measures may include: Children aged 5 through 17 in poverty counted in the most recent census data approved by the Secretary; ¹⁰ students eligible for a free or reduced-price lunch under the Richard B. Russell National School Lunch Act (42 U.S.C. 1751 et seq.); students from families receiving assistance under the State program funded under part A of title IV of the Social Security Act; students eligible to receive medical assistance under the Medicaid Program; students who are Federal Pell Grant recipients; students who are eligible for the Supplemental Nutrition Assistance Program authorized by the Food and Nutrition Act of 2008, as amended (7 U.S.C. 2013 et seq.); or a composite of such indicators.

¹⁰ The U.S. Census Bureau LEA poverty estimates are available at: www.census.gov/data/datasets/2017/demo/saipe/2017-school-districts.html.

Competitive Preference Priority 3—Serving Students in Qualified Opportunity Zones (two points).

Projects designed to promote economic mobility by serving students residing or attending CTE programs in Qualified Opportunity Zones. To meet this priority, each eligible applicant must—

(a) Submit documentation that identifies at least one designated Qualified Opportunity Zone by census tract number, as well as by the county and State; and

(b) Describe how the project will promote economic mobility by serving students who reside, or who will attend CTE programs, in the designated Qualified Opportunity Zone(s) identified under paragraph (a).

Invitational Priority: For FY 2019, and any subsequent year in which we make awards from the list of unfunded applications from this competition, this priority is an invitational priority. Under 34 CFR 75.105(c)(1), we do not give an application that meets this invitational priority any preference over other applications.

This priority is:

Spurring Investment in CTE from Qualified Opportunity Funds.

Under this priority, an applicant must provide evidence in its application that it has received or will receive financial assistance from a qualified opportunity fund under section 1400Z-2 of the Internal Revenue Code, as amended by the Tax Cuts and Jobs Act, for a purpose directly related to its proposed project, especially for property including needed equipment and technology. In addressing this priority, an applicant must identify the qualified opportunity fund from which it has received or will receive financial assistance.

Note: Financial assistance from a qualified opportunity fund could allow an eligible applicant to meet the cost sharing or matching requirement in whole or in part.

Requirements: The application requirements are from section 114(e)(3) of Perkins V. All applicants must meet the application requirements in order to be considered for funding. Under the Secretary's transition authority in section 4 of the Strengthening Career and Technical Education for the 21st Century Act, we are waiving the application requirement from section 114(e)(3)(E) of Perkins V that requires applicants to ensure that the plan reflects the comprehensive needs assessment required under section 134(c) of Perkins V, because State and local entities have not yet implemented this provision. The program requirements are established in accordance with section 437(d)(1) of GEPA. However, they are based on sections 114(e)(7) and (e)(8) of Perkins V. The definitions of Computer Science and Independent Evaluation cross referenced in both of the program requirements are established in accordance with section 437(d)(1) of GEPA.

The application requirements are:

(a) Each applicant must identify and designate the agency, institution, or school responsible for the administration and supervision of the proposed project;

(b) Each applicant must describe the budget for the project, including the source and amount of the required matching funds and how the applicant will continue the project after the grant period ends, if applicable;

(c) Each applicant must describe how the applicant will use the grant funds, including how such grant funds will directly benefit students, including Special Populations, served by the applicant;

Note: In addressing this application requirement, applicants should indicate which allowable activities in Program Requirement 2 the applicant intends to fund.

(d) Each applicant must describe how the program assisted under this subsection will be coordinated with the activities carried out under section 124 or 135 of Perkins V.

Note: In addressing this application requirement, applicants need only describe this coordination, to the extent the applicant is aware of State leadership activities or local uses of funds under section 124 or 135 of Perkins V.

(e) Each applicant must describe how the CTE programs or Programs of Study to be implemented with grant funds reflect the needs of regional, State, or local employers;

(f) Each applicant must describe how the proposed program will be evaluated and how that evaluation may inform the report described in section 114(d)(2)(C) of Perkins V; and

Note: In addressing this application requirement, applicants should ensure that their response is consistent with Program Requirement 1.

(g) Each applicant must provide an assurance that the applicant will—

(i) Provide information to the Secretary, as requested, for evaluations that the Secretary may carry out; and

(ii) Make data available to third parties for validation, in accordance with applicable data privacy laws, including section 444 of GEPA (20 U.S.C. 1232g, commonly known as the Family Educational Rights and Privacy Act of 1974).

Note: The applicable FERPA disclosure regulations regarding prior consent may be found at 34 CFR 99.30 and 34 CFR 99.31(a).

The program requirements are:

Program Requirement 1—Evaluation.

In accordance with section 437(d)(1) of GEPA, a grantee must conduct an Independent Evaluation of the activities carried out under the grant and submit to the Secretary an annual report that includes:

(a) A description of how the grant funds were used;

(b) The performance of the project with respect to, at a minimum, the performance indicators described under section 113 of the Act, as applicable, and disaggregated by—

(1) Subgroups of students described in section 1111(c)(2)(B) of the ESEA;

(2) Special Populations; and

(3) As appropriate, each CTE program and Program of Study; and

(c) A quantitative analysis of the effectiveness of the project.

Program Requirement 2—Use of Funds.

In accordance with section 437(d)(1) of GEPA, a grantee must use Perkins Innovation and Modernization funds for one or more of the following activities:

(a) Designing and implementing courses or Programs of Study aligned to labor market needs in new or emerging fields and working with industry to upgrade equipment, technology, and related curriculum used in CTE programs, which is needed for the development, expansion, and implementation of State-approved CTE Programs of Study, including—

(1) The development or acquisition of instructional materials associated with the equipment and technology purchased by an Eligible Entity, Eligible Institution, or Eligible Recipient through the grant; or

(2) Efforts to expand, develop, or implement programs designed to increase opportunities for students to take rigorous courses in coding or Computer Science subject areas, and support for statewide efforts to increase access and implementation of coding or Computer Science courses in order to meet local labor market needs in occupations that require skills in those subject areas.

(b) Improving CTE outcomes of students served by Eligible Entities, Eligible Institutions, or Eligible Recipients through activities such as—

(1) Supporting the development and enhancement of innovative delivery models for CTE-related Work-Based Learning, including school-based simulated work sites, mentoring, work site visits, job shadowing, project-based learning, and skills-based and paid internships;

(2) Increasing the effective use of technology within CTE programs and Programs of Study;

(3) Supporting new models for integrating academic content at the secondary and postsecondary level in CTE; or

(4) Integrating STEM fields, including Computer Science education, with CTE.

(c) Improving the transition of students—

(1) From secondary education to postsecondary education or employment through programs, activities, or services that may include the creation, development, or expansion of Dual or Concurrent Enrollment Programs, Articulation Agreements, Credit Transfer Agreements, and competency-based education; or

(2) From the completion of one postsecondary program to another postsecondary program that awards a Recognized Postsecondary Credential.

(d) Supporting the development and enhancement of innovative delivery models for CTE.

(e) Working with industry to design and implement courses or Programs of Study aligned to labor market needs in new or emerging fields.

(f) Supporting innovative approaches to CTE by redesigning the high school experience for students, which may include Evidence-Based transitional support strategies for students who have not met postsecondary education eligibility requirements.

(g) Creating or expanding recruitment, retention, or professional development activities for CTE teachers, faculty, school leaders, administrators, Specialized Instructional Support Personnel, career guidance and academic counselors, and Paraprofessionals, which may include—

(1) Providing resources and training to improve instruction for, and provide appropriate accommodations to, Special Populations;

(2) Externships or site visits with business and industry;

(3) The integration of coherent and rigorous academic content standards and CTE curricula, including through opportunities for appropriate academic and CTE teachers to jointly develop and implement curricula and pedagogical strategies;

(4) Mentoring by experienced teachers;

(5) Providing resources or assistance with meeting State teacher licensure and credential requirements; or

(6) Training for career guidance and academic counselors at the secondary level to improve awareness of postsecondary education and postsecondary career options, and improve the ability of such counselors to communicate to students the career opportunities and employment trends.

(h) Improving CTE Concentrator employment outcomes in nontraditional fields.

(i) Supporting the use of CTE programs and Programs of Study in a coordinated strategy to address identified employer needs and workforce shortages, such as shortages in the early childhood, elementary school, and secondary school education workforce.

(j) Providing integrated student support that addresses the comprehensive needs of students, such as incorporating accelerated and differentiated learning opportunities supported by Evidence-Based strategies for Special Populations.

(k) Establishing an online portal for CTE students, including Special Populations, preparing for postsecondary CTE, which may include opportunities for mentoring, gaining financial literacy skills, and identifying career opportunities and interests, and a platform to establish online savings accounts to be used exclusively for postsecondary CTE programs and Programs of Study.

(l) Developing and implementing a Pay for Success Initiative.

Definitions: The definitions of Articulation Agreement, Career and Technical Education, Credit Transfer Agreement, CTE Concentrator, Eligible Agency, Eligible Entity, Eligible Institution, Eligible Recipient, Pay for Success Initiative, Postsecondary Educational Institution, Professional Development, Program of Study, Special Populations, and Work-Based Learning are from section 3 of Perkins V. The definitions of Dual or Concurrent Enrollment Program, Early College High School, Evidence-Based, Paraprofessional, and Specialized Instructional Support Personnel are from section 8101 of the ESEA (20 U.S.C. 7801 et seq.) because Perkins V adopted the ESEA definitions (see subsections (15), (16), (23), and (47) of section 3 of Perkins V, respectively). The definition of Institution of Higher Education is from section 101 of the Higher Education Act of 1965, as amended (HEA), because Perkins V adopted the HEA definition (see section 3(30) of Perkins V). The definitions of Baseline, Demonstrates a Rationale, Logic Model, Performance Measure, Performance Target, Project Component, and Relevant Outcome are from 34 CFR 77.1. The definition of Recognized Postsecondary Credential is from section 3 of WIOA (29 U.S.C. 3102), because Perkins V adopted the WIOA definition. The definition of Computer Science is from the Secretary's Supplemental Priorities. We are establishing the definition for Independent Evaluation and Qualified Opportunity Zone for the FY 2019 grant competition and any subsequent year in which we make awards from the list of unfunded applications from this competition, in accordance with section 437(d)(1) of GEPA.

Articulation Agreement means a written commitment—

(a) That is agreed upon at the State level or approved annually by the lead administrators of—

(1) A secondary institution and a Postsecondary Educational Institution; or

(2) A subbaccalaureate degree granting Postsecondary Educational Institution and a baccalaureate degree granting Postsecondary Educational Institution; and

(b) To a program that is—

(1) Designed to provide students with a nonduplicative sequence of progressive achievement leading to technical skill proficiency, a credential, a certificate, or a degree; and

(2) Linked through Credit Transfer Agreements between the 2 institutions described in clause (1) or (2) of subparagraph (a) (as the case may be).

Baseline means the starting point from which performance is measured and targets are set.

Career and Technical Education means organized educational activities that—

(a) Offer a sequence of courses that—

(1) Provides individuals with rigorous academic content and relevant technical knowledge and skills needed to prepare for further education and careers in current or emerging professions, which may include high-skill, high-wage, or in-demand industry sectors or occupations, which shall be, at the secondary level, aligned with the challenging State academic standards adopted by a State under section 1111(b)(1) of the ESEA;

(2) Provides technical skill proficiency or a Recognized Postsecondary Credential which may include an industry-recognized credential, a certificate, or an associate degree; and

(3) May include prerequisite courses (other than a remedial course) that meet the requirements of this subparagraph;

(b) Include competency-based, Work-Based, or other applied learning that supports the development of academic knowledge, higher-order reasoning and problem-solving skills, work attitudes, employability skills, technical skills, and occupation-specific skills, and knowledge of all aspects of an industry, including entrepreneurship, of an individual;

(c) To the extent practicable, coordinate between secondary and postsecondary education programs through Programs of Study, which may include coordination through Articulation Agreements, Early College High School programs, Dual or Concurrent Enrollment Program opportunities, or other Credit Transfer Agreements that provide postsecondary credit or advanced standing; and

(d) May include career exploration at the high school level or as early as the middle grades (as such term is defined in section 8101 of the ESEA).

Computer Science means the study of computers and algorithmic processes and includes the study of computing principles and theories, computational thinking, computer hardware, software design, coding, analytics, and computer applications.

Computer Science often includes computer programming or coding as a tool to create software, including applications, games, websites, and tools to manage or manipulate data; or development and management of computer hardware and the other electronics related to sharing, securing, and using digital information.

In addition to coding, the expanding field of Computer Science emphasizes computational thinking and interdisciplinary problem-solving to equip students with the skills and abilities necessary to apply computation in our digital world.

Computer Science does not include using a computer for everyday activities, such as browsing the internet; use of tools like word processing, spreadsheets, or presentation software; or using computers in the study and exploration of unrelated subjects.

Credit Transfer Agreement means a formal agreement, such as an Articulation Agreement, among and between secondary and postsecondary education institutions or systems that grant students transcripted postsecondary credit, which may include credit granted to students in Dual or Concurrent Enrollment Programs, Early College High School, dual credit, articulated credit, and credit granted on the basis of performance on technical or academic assessments.

CTE Concentrator means—

(a) At the secondary school level, a student served by an Eligible Recipient who has completed at least two courses in a single CTE program or Program of Study; and

(b) At the postsecondary level, a student enrolled in an Eligible Recipient who has—

(1) Earned at least 12 credits within a CTE program or Program of Study; or

(2) Completed such a program if the program encompasses fewer than 12 credits or the equivalent in total.

Demonstrates a Rationale means a key Project Component included in the project's Logic Model is informed by research or evaluation findings that suggest the Project Component is likely to improve Relevant Outcomes.

Dual or Concurrent Enrollment Program means a program offered by a partnership between at least one IHE and at least one LEA through which a secondary school student who has not graduated from high school with a regular high school diploma is able to enroll in one or more postsecondary courses and earn postsecondary credit that—

(a) Is transferable to the IHEs in the partnership; and

(b) Applies toward completion of a degree or recognized educational credential as described in the HEA (20 U.S.C. 1001 et seq.).

Early College High School means a partnership between at least one LEA and at least one IHE that allows participants to simultaneously complete requirements toward earning a regular high school diploma and earn not less than 12 credits that are transferable to the IHEs in the partnership as part of an organized course of study toward a postsecondary degree or credential at no cost to the participant or participant's family.

Eligible Agency means a State board designated or created consistent with State law as the sole State agency responsible for the administration of CTE in the State or for the supervision of the administration of CTE in the State.

Eligible Entity means a consortium that includes the following:

(a) Representatives of not less than 2 of the following categories of entities, 1 of which shall serve as the fiscal agent for the consortium:

(1) An LEA or a consortium of such agencies.

(2) An educational service agency serving secondary school students.

(3) An area CTE school or a consortium of such schools.

(4) An Indian Tribe, Tribal organization, or Tribal educational agency.

(5) An IHE whose most common degree awarded is an associate degree, or a consortium of such institutions.

(6) An IHE whose most common degree awarded is a bachelor's or higher degree, or a consortium of such institutions.

(7) An SEA.

(b) One or more business or industry representative partners, which may include representatives of local or regional businesses or industries, including industry or sector partnerships in the local area, local workforce development boards, or labor organizations.

(c) One or more stakeholders, which may include—

(1) Parents and students;

(2) Representatives of local agencies serving out-of-school youth, homeless children and youth, and at-risk youth (as defined in section 1432 of the ESEA (20 U.S.C. 6472));

(3) Representatives of Indian Tribes and Tribal organizations, where applicable;

(4) Representatives of minority-serving institutions (as described in paragraphs (1) through (7) of section 371(a) of the HEA (20 U.S.C. 1067q (a)), where applicable;

(5) Representatives of Special Populations;

(6) Representatives of adult CTE providers; or

(7) Other relevant community stakeholders.

Eligible Institution means—

(a) A consortium of 2 or more of the entities described in subparagraphs (b) through (f);

(b) A public or nonprofit private IHE that offers and will use funds provided under this title in support of CTE courses that lead to technical skill proficiency or a Recognized Postsecondary Credential, including an industry-recognized credential, a certificate, or an associate degree;

(c) An LEA providing education at the postsecondary level;

(d) An area CTE school providing education at the postsecondary level;

(e) An Indian Tribe, Tribal organization, or Tribal education agency that operates a school or may be present in the State;

(f) A Postsecondary Educational Institution controlled by the Bureau of Indian Education or operated by or on behalf of any Indian Tribe that is eligible to contract with the Secretary of the Interior for the administration of programs under the Indian Self-Determination and Education Assistance Act (25 U.S.C. 5301 et seq.) or the Act of April 16, 1934 (25 U.S.C. 5342 et seq.);

(g) A tribally controlled college or university; or

(h) An educational service agency.

Eligible Recipient means—

(a) An LEA (including a public charter school that operates as an LEA), an area CTE school, an educational service agency, an Indian Tribe, Tribal organization, or Tribal educational agency or a consortium, eligible to receive assistance under section 131; or

(b) An Eligible Institution or consortium of Eligible Institutions eligible to receive assistance under section 132.

Evidence-Based, when used with respect to State, LEA, or school activity, means an activity, strategy, or intervention that—

(1) Demonstrates a Rationale based on high-quality research findings or positive evaluation that such activity, strategy, or intervention is likely to improve student outcomes or other Relevant Outcomes; and

(2) Includes ongoing efforts to examine the effects of such activity, strategy, or intervention.

Note: Under section 3(23) of Perkins V, and specifically for the purpose of this competition, this definition of Evidence-Based from section 8101(21)(A) of the ESEA also applies to an Eligible Entity, an Eligible Institution, and an Eligible Recipient.

Independent Evaluation means an evaluation that is designed and carried out independent of and external to the grantee but in coordination with any employees of the grantee who develop a Project Component that is currently being implemented as part of the grant's activities.

Institution of Higher Education (IHE) means—

(a) An educational institution in any State that—

(1) Admits as regular students only persons having a certificate of graduation from a school providing secondary education, or the recognized equivalent of such a certificate, or persons who meet the requirements of section 484(d)(3) of the HEA;

(2) Is legally authorized within such State to provide a program of education beyond secondary education;

(3) Provides an educational program for which the institution awards a bachelor's degree or provides not less than a 2-year program that is acceptable for full credit toward such a degree, or awards a degree that is acceptable for admission to a graduate or professional degree program, subject to review and approval by the Secretary;

(4) Is a public or other nonprofit institution; and

(5) Is accredited by a nationally recognized accrediting agency or association or, if not so accredited, is an institution that has been granted pre-accreditation status by such an agency or association that has been recognized by the Secretary of Education for the granting of pre-accreditation status, and the Secretary of Education has determined that there is satisfactory assurance that the institution will meet the accreditation standards of such an agency or association within a reasonable time.

(b) The term also includes:

(1) Any school that provides not less than a 1-year program of training to prepare students for gainful employment in a recognized occupation and that meets the provisions of paragraphs (1), (2), (4), and (5) of subsection (a) of this definition; and

(2) A public or nonprofit private educational institution in any State that, in lieu of the requirement in subsection (a)(1) of this definition, admits as regular students individuals—

(A) Who are beyond the age of compulsory school attendance in the State in which the institution is located; or

(B) Who will be dually or concurrently enrolled in the institution and a secondary school.

Logic Model (also referred to as a theory of action) means a framework that identifies key Project Components of the proposed project (i.e., the active “ingredients” that are hypothesized to be critical to achieving the Relevant Outcomes) and describes the theoretical and operational relationships among the key Project Components and Relevant Outcomes.

Paraprofessional, also known as a “paraeducator,” includes an education assistant and instructional assistant.

Pay for Success Initiative means a performance-based grant, contract, or cooperative agreement awarded by a State or local public entity (such as an LEA) to a public or private nonprofit entity—

(a) In which a commitment is made to pay for improved outcomes that result in increased public value and social benefit to students and the public sector, such as improved student outcomes as evidenced by the indicators of performance described in section 113(b)(2) of Perkins V and direct cost savings or cost avoidance to the public sector; and

(b) That includes—

(1) A feasibility study on the initiative describing how the proposed intervention is based on evidence of effectiveness;

(2) A rigorous, third-party evaluation that uses experimental or quasi-experimental design or other research methodologies that allow for the strongest possible causal inferences to determine whether the initiative has met its proposed outcomes;

(3) An annual, publicly available report on the progress of the initiative; and

(4) A requirement that payments are made to the recipient of a grant, contract, or cooperative agreement only when agreed upon outcomes are achieved, except that the entity may make payments to the third party conducting the evaluation described in subclause (2).

Exclusion—The term “Pay for Success Initiative” does not include any initiative that—

(a) Reduces the special education or related services that a student would otherwise receive under the Individuals with Disabilities Education Act (IDEA); or

(b) Otherwise reduces the rights of a student or the obligations of an entity under the IDEA, the Rehabilitation Act of 1973 (29 U.S.C. 701 et seq.),¹¹ the Americans with Disabilities Act of 1990 (42 U.S.C. 12101 et seq.), or any other law.

¹¹ This includes Section 504 of the Rehabilitation Act of 1973 (29 U.S.C. 794).

Performance Measure means any quantitative indicator, statistic, or metric used to gauge program or project performance.

Performance Target means a level of performance that an applicant would seek to meet during the course of a project or as a result of a project.

Postsecondary Educational Institution means—

(a) An IHE that provides not less than a 2-year program of instruction that is acceptable for credit toward a bachelor's degree;

(b) A tribally controlled college or university; or

(c) A nonprofit educational institution offering certificate or other skilled training programs at the postsecondary level.

Professional Development means activities that—

(a) Are an integral part of Eligible Agency, Eligible Recipient, institution, or school strategies for providing educators (including teachers, principals, other school leaders, administrators, Specialized Instructional Support Personnel, career guidance and academic counselors, and Paraprofessionals) with the knowledge and skills necessary to enable students to succeed in Career and Technical Education, to meet challenging State academic standards under section 1111(b)(1) of the ESEA, or to achieve academic skills at the postsecondary level; and

(b) Are sustained (not stand-alone, 1-day, or short-term workshops), intensive, collaborative, job-embedded, data-driven, and classroom-focused, to the extent practicable Evidence-Based, and may include activities that—

(1) Improve and increase educators'—

(A) Knowledge of the academic and technical subjects;

(B) Understanding of how students learn; and

(C) Ability to analyze student work and achievement from multiple sources, including how to adjust instructional strategies, assessments, and materials based on such analysis;

(2) Are an integral part of Eligible Recipients' improvement plans;

(3) Allow personalized plans for each educator to address the educator's specific needs identified in observation or other feedback;

(4) Support the recruitment, hiring, and training of effective educators, including educators who became certified through State and local alternative routes to certification;

(5) Advance educator understanding of—

(A) Effective instructional strategies that are Evidence-Based; and

(B) Strategies for improving student academic and technical achievement or substantially increasing the knowledge and teaching skills of educators;

(6) Are developed with extensive participation of educators, parents, students, and representatives of Indian Tribes (as applicable), of schools and institutions served under the Act;

(7) Are designed to give educators of students who are English learners in CTE programs or Programs of Study the knowledge and skills to provide instruction and appropriate language and academic support services to those students, including the appropriate use of curricula and assessments;

(8) As a whole, are regularly evaluated for their impact on increased educator effectiveness and improved student academic and technical achievement, with the findings of the evaluations used to improve the quality of professional development;

(9) Are designed to give educators of individuals with disabilities in CTE programs or Programs of Study the knowledge and skills to provide instruction and academic support services to those individuals, including positive behavioral interventions and supports, multi-tier system of supports, and use of accommodations;

(10) Include instruction in the use of data and assessments to inform and instruct classroom practice;

(11) Include instruction in ways that educators may work more effectively with parents and families;

(12) Provide follow-up training to educators who have participated in activities described in this paragraph that are designed to ensure that the knowledge and skills learned by the educators are implemented in the classroom;

(13) Promote the integration of academic knowledge and skills and relevant technical knowledge and skills, including programming jointly delivered to academic and CTE teachers; or

(14) Increase the ability of educators providing CTE instruction to stay current with industry standards.

Program of Study means a coordinated, nonduplicative sequence of academic and technical content at the secondary and postsecondary level that—

(a) Incorporates challenging State academic standards, including those adopted by a State under section 1111(b)(1) of the ESEA;

(b) Addresses both academic and technical knowledge and skills, including employability skills;

(c) Is aligned with the needs of industries in the economy of the State, region, Tribal community, or local area;

(d) Progresses in specificity (beginning with all aspects of an industry or career cluster and leading to more occupation-specific instruction);

(e) Has multiple entry and exit points that incorporate credentialing; and

(f) Culminates in the attainment of a Recognized Postsecondary Credential.

Project Component means an activity, strategy, intervention, process, product, practice, or policy included in a project. Evidence may pertain to an individual project component or to a combination of project components (e.g., training teachers on instructional practices for English learners and follow-on coaching for these teachers).

Qualified Opportunity Zone is an economically distressed community where new investments, under certain conditions, may be eligible for preferential tax treatment. Localities are Qualified Opportunity Zones if they have been nominated for that designation by the State and that nomination has been certified by the Secretary of the U.S. Treasury via his delegation of authority to the Internal Revenue Service. A list of designated Qualified Opportunity Zones and other resources can be found at: www.cdfifund.gov/Pages/Opportunity-Zones.aspx.

Recognized Postsecondary Credential means a credential consisting of an industry-recognized certificate or certification, a certificate of completion of an apprenticeship, a license recognized by the State involved or Federal Government, or an associate or baccalaureate degree.

Relevant Outcome means the student outcome(s) or other outcome(s) the key Project Component is designed to improve, consistent with the specific goals of the program.

Specialized Instructional Support Personnel means—

(a) School counselors, school social workers, and school psychologists; and

(b) Other qualified professional personnel, such as school nurses, speech language pathologists, and school librarians, involved in providing assessment, diagnosis, counseling, educational, therapeutic, and other necessary services (including related services as that term is defined in section 602 of the IDEA (20 U.S.C. 1401)) as part of a comprehensive program to meet student needs.

Special Populations means—

(a) Individuals with disabilities;

(b) Individuals from economically disadvantaged families, including low-income youth and adults;

(c) Individuals preparing for nontraditional fields;

(d) Single parents, including single pregnant women;

(e) Out-of-workforce individuals;

(f) English learners;

(g) Homeless individuals described in section 725 of the McKinney-Vento Homeless Assistance Act (42 U.S.C. 11434a);

(h) Youth who are in, or have aged out of, the foster care system; and

(i) Youth with a parent who—

(1) Is a member of the armed forces (as such term is defined in section 101(a)(4) of title 10, United States Code); and

(2) Is on active duty (as such term is defined in section 101(d)(1) of such title).

Work-Based Learning means sustained interactions with industry or community professionals in real workplace settings, to the extent practicable, or simulated environments at an educational institution that foster in-depth, firsthand engagement with the tasks required of a given career field, that are aligned to curriculum and instruction.

Waiver of Proposed Rulemaking: Under the Administrative Procedure Act (5 U.S.C. 553), the Department generally offers interested parties the opportunity to comment on proposed priorities, program requirements, and definitions. Section 437(d)(1) of GEPA, however, allows the Secretary to exempt from rulemaking requirements regulations governing the first grant competition under a new or substantially revised program authority. This is the first grant competition for this program under section 114(e) of Perkins V and, therefore, qualifies for this exemption. In order to ensure timely grant awards, the Secretary has decided to forgo public comment on the priorities, program requirements, and definitions under section 437(d)(1) of GEPA. These priorities, program requirements, and definitions will apply to the FY 2019 grant competition and any subsequent year in which we make awards from the list of unfunded applications from this competition.

Program Authority: Section 114(e) of Perkins V.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) Secretary's Supplemental Priorities.

Note: The regulations in 34 CFR part 86 apply to IHEs only.

II. Award Information

Type of Award: Discretionary grants.

Estimated Available Funds: $2,800,000.

Contingent upon the availability of funds and the quality of applications, we may make additional awards in subsequent years from the list of unfunded applications from this competition.

Estimated Range of Awards: $400,000-$500,000 for one 36-month project period.

Estimated Average Size of Awards: $450,000.

Estimated Number of Awards: 6.

Note: The Department is not bound by any estimates and does not set a maximum award in this notice.

Project Period: Up to 60 months. We anticipate that initial awards under this competition will be made for a three-year (36-month) period.

Under section 114(e)(6)(B) of Perkins V, contingent upon the availability of funds and each grantee's demonstration to the Secretary that the grantee is achieving the program objectives and, as applicable, has improved education outcomes for CTE students, including Special Populations, the Secretary may make continuation awards to grantees for the remainder of the project period.

Note: Under section 114(e)(5) of Perkins V, the Department must use at least 25 percent of Perkins Innovation and Modernization funds per fiscal year to make awards to applicants serving rural areas, contingent on receipt of a sufficient number of applications of sufficient quality. For purposes of this competition, we will consider an applicant as rural if the applicant meets the qualifications for rural applicants established in section 114(e)(5)(A) of Perkins V, and the applicant certifies that it meets those qualifications in its application. In implementing this statutory provision and program requirement, the Department may fund high-quality applications from rural applicants out of rank order.

III. Eligibility Information

1. Eligible Applicants: The following entities are eligible to apply under this competition:

(a) An Eligible Entity.

(b) An Eligible Institution.

(c) An Eligible Recipient.

Note:An Eligible Entity must comply with the regulations in 34 CFR 75.127 through 75.129, which address group applications.

2. Rural Applicants: To qualify as a rural applicant under section 114(e)(5)(A) of Perkins V, an applicant must meet at least one of the following requirements:

(a) The applicant is—

(1) An LEA with an urban-centric district locale code of 32, 33, 41, 42, or 43, as determined by the Secretary;

(2) An IHE primarily serving one or more areas served by an LEA with an urban-centric district locale code of 32, 33, 41, 42, or 43, as determined by the Secretary;

(3) A consortium of such LEAs or such IHEs described in clause (1) or (2), above;

(4) An educational service agency or a nonprofit organization in partnership with such an LEA or such an IHE, in clause (1) or (2), above; or

(5) An applicant described in clause (1) or (2) in partnership with an SEA.

Note: For the purposes of meeting the statutory rural set aside, an applicant must meet the requirements as listed above and provide the necessary locale codes in its grant application. Applicants are encouraged to retrieve locale codes from the National Center for Education Statistics School District search tool (https://nces.ed.gov/ccd/districtsearch/), where districts can be looked up individually to retrieve locale codes.

3. a. Cost Sharing or Matching:

Under section 114(e)(2) of Perkins V, each grant recipient must provide, from non-Federal sources (e.g., State, local, or private sources), an amount equal to not less than 50 percent of funds provided under the grant, which may be provided in cash or through in-kind contributions, to carry out activities supported by the grant. Grantees must include a budget detailing the source of the matching funds and must provide evidence of their matching contributions for at least the first year of the grant in their grant applications, including a letter committing to the match from an individual who has authority to make legally binding commitments on behalf of the entity. Consistent with 2 CFR 200.306(b), any matching funds must be an allowable use of funds consistent with the cost principles detailed in Subpart E of the Uniform Guidance, and not included as a contribution for any other Federal award. Perkins V authorizes the Secretary to waive the matching requirement on a case-by-case basis upon demonstration of exceptional circumstances. The Secretary does not, as a general matter, anticipate waiving this requirement in the future. Furthermore, given the importance of matching funds to the long-term success of the project, eligible entities must identify appropriate matching funds in the proposed budget.

b. Supplement-not-Supplant: This program is subject to supplement-not-supplant funding requirements. In accordance with section 211(a) of Perkins V, funds under this program may not be used to supplant non-Federal funds used to carry out CTE activities. Because this program also has a match requirement, and consistent with 2 CFR 200.306(b)(4), any matching funds must be for allowable expenditures, and any funds or contributions used to meet the match requirement must supplement and not supplant non-Federal funds that, in the absence of the Perkins Innovation & Modernization funds, would otherwise support CTE activities. Further, the prohibition against supplanting also means that grantees will be required to use their negotiated restricted indirect cost rates under this program. (34 CFR 75.563)

4. Subgrantees: Under 34 CFR 75.708(b) and (c), a grantee under this competition may award subgrants to directly carry out project activities described in its application to the following types of entities: LEAs, Postsecondary Educational Institutions, or SEAs. The grantee may award subgrants to entities it has identified in an approved application.

IV. Application and Submission Information

1. Application Submission Instructions: Applicants are required to follow the Common Instructions for Applicants to Department of Education Discretionary Grant Programs, published in the Federal Register on February 13, 2019 (84 FR 3768), and available at www.govinfo.gov/content/pkg/FR-2019-02-13/pdf/2019-02206.pdf, which contain requirements and information on how to submit an application.

2. Submission of Proprietary Information: Given the types of projects that may be proposed in applications for the Perkins Innovation and Modernization competition, your application may include business information that you consider proprietary. In 34 CFR 5.11 we define “business information” and describe the process we use in determining whether any of that information is proprietary and, thus, protected from disclosure under Exemption 4 of the Freedom of Information Act (5 U.S.C. 552, as amended). Because we may make successful applications available to the public, you may wish to request confidentiality of business information. Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this program.

4. Funding Restrictions: We reference regulations outlining funding restrictions in the Applicable Regulations section of this notice.

5. Recommended Page Limit: The application narrative is where you, the applicant, address the selection criteria that reviewers use to evaluate your application. We recommend that you (1) limit the application narrative to no more than 35 pages and (2) use the following standards:

• A “page” is 8.5″ x 11″, on one side only, with 1″ margins at the top, bottom, and both sides.

• Double-space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, or Arial.

The recommended page limit does not apply to the cover sheet; the budget section, including the narrative budget justification; the assurances and certifications; or the one-page abstract, the resumes, the bibliography, or the letters of support. However, the recommended page limit does apply to all of the application narrative.

6. Notice of Intent to Apply: The Department will be able to review grant applications more efficiently if we know the approximate number of applicants that intend to apply. Therefore, we strongly encourage each potential applicant to notify us of their intent to submit an application. To do so, please email the program contact person listed under FOR FURTHER INFORMATION CONTACT with the subject line “Intent to Apply,” and include the applicant's name and a contact person's name and email address. Applicants that do not submit a notice of intent to apply may still apply for funding; applicants that do submit a notice of intent to apply are not bound to apply or bound by the information provided.

V. Application Review Information

1. Selection Criteria: The selection criteria for this program are from 34 CFR 75.210. The maximum score for all of the selection criteria is 100 points. The maximum score for each criterion is indicated in parentheses. In addressing the criteria, applicants are encouraged to make explicit connections to the priorities and requirements listed elsewhere in this notice. The selection criteria for this competition are as follows:

(a) Significance (up to 20 points).

In determining the significance of the project, the Secretary considers the following factors:

(1) The extent to which the proposed project involves the development or demonstration of promising new strategies that build on, or are alternatives to, existing strategies. (up to 10 points)

(2) The likelihood that the proposed project will result in system change or improvement. (up to 10 points)

(b) Quality of the Project Design and Management Plan (up to 35 points).

In determining the quality of the proposed project design and management plan, the Secretary considers the following factors:

(1) The extent to which the goals, objectives, and outcomes to be achieved by the proposed project are clearly specified and measurable. (up to 15 points)

(2) The adequacy of the management plan to achieve the objectives of the proposed project on time and within budget, including clearly defined responsibilities, timelines, and milestones for accomplishing project tasks. (up to 10 points)

(3) The potential and planning for the incorporation of project purposes, activities, or benefits into the ongoing work of the applicant beyond the end of the grant. (up to 10 points)

(c) Adequacy of resources. (25 points)

The Secretary considers the adequacy of resources for the proposed project. In determining the adequacy of resources for the proposed project, the Secretary considers—

(1) The extent to which the budget is adequate to support the proposed project. (up to 15 points)

(2) The relevance and demonstrated commitment of each partner in the proposed project to the implementation and success of the project. (up to 10 points)

(d) Quality of the Project Evaluation. (20 points)

In determining the quality of the project evaluation to be conducted, the Secretary considers the following factors:

(1) The extent to which the methods of evaluation include the use of objective Performance Measures that are clearly related to the intended outcomes of the project and will produce quantitative and qualitative data to the extent possible. (up to 5 points)

(2) The extent to which the methods of evaluation will provide performance feedback and permit periodic assessment of progress toward achieving intended outcomes. (up to 5 points)

(3) The extent to which the evaluation will provide guidance about effective strategies suitable for replication or testing in other settings. (up to 10 points)

Note: Applicants may wish to review the following technical assistance resources on evaluation:

(1) The What Works Clearinghouse (WWC) Procedures and Standards Handbooks: https://ies.ed.gov/ncee/wwc/Handbooks;

(2) “Technical Assistance Materials for Conducting Rigorous Impact Evaluations”: http://ies.ed.gov/ncee/projects/evaluationTA.asp; and

(3) IES/NCEE Technical Methods papers: http://ies.ed.gov/ncee/tech_methods/.

In addition, applicants may view an optional webinar recording that was hosted by the Institute of Education Sciences, focused on more rigorous evaluation designs, discussing strategies for designing and executing experimental studies that meet WWC evidence standards without reservations. This webinar is available at: http://ies.ed.gov/ncee/wwc/Multimedia.aspx?sid=18.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances including those applicable to Federal civil rights laws that prohibit discrimination in programs or activities receiving Federal financial assistance from the Department of Education (34 CFR 100.4, 104.5, 106.4, 108.8, and 110.23).

Before making awards, we will screen applications submitted in accordance with the requirements in this notice to determine whether applications have met eligibility and other requirements. This screening process may occur at various stages of the process; applicants that are determined to be ineligible will not receive a grant, regardless of peer reviewer scores or comments.

Peer reviewers will read, prepare a written evaluation of, and score the assigned applications, using the selection criteria provided in this notice.

Additional factors we consider in selecting an application for an award are as follows:

(a) As required under section 114(e)(5) of Perkins, the Secretary shall award no less than 25 percent of the total available funds for any fiscal year to Eligible Entities, Eligible Institutions, or Eligible Recipients proposing to fund CTE activities that serve—

(1) An LEA with an urban-centric district locale code of 32, 33, 41, 42, or 43, as determined by the Secretary;

(2) An IHE primarily serving one or more areas served by such an LEA;

(3) A consortium of such LEAs or such IHEs;

(4) A partnership between—

(A) An educational service agency or a nonprofit organization; and

(B) Such an LEA or such an IHE; or

(5) A partnership between—

(A) A grant recipient described in clause (1) or (2); and

(B) An SEA.

(b) The Secretary shall reduce the amount of funds made available under such clause if the Secretary does not receive a sufficient number of applications of sufficient quality.

3. Risk Assessment and Specific Conditions: Consistent with 2 CFR 200.205, before awarding grants under this program the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.205(a)(2), we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case, the Secretary establishes a data collection period.

5. Performance Measures: The overall purpose of the Perkins Innovation and Modernization Grant Program is to support and evaluate Evidence-Based and innovative strategies and activities to improve and modernize CTE and align workforce skills with labor market needs as part of the State plan. Each grantee will be required to report on student outcomes, as applicable, using the Perkins V section 113 core indicators of performance.

The core indicators of performance for CTE Concentrators at the secondary level are—

(a) The percentage of CTE Concentrators who graduate high school, as measured by the four-year adjusted cohort graduation rate (defined in section 8101 of the ESEA);

(b) The percentage of CTE Concentrators who graduate high school, as measured by extended-year adjusted cohort graduation rate (defined in section 8101 of the ESEA);

(c) CTE Concentrator proficiency in the challenging State academic standards adopted by the State under section 1111(b)(1) of the ESEA, as measured by the academic assessments in reading/language arts as described in section 1111(b)(2) of the ESEA;

(d) CTE Concentrator proficiency in the challenging State academic standards adopted by the State under section 1111(b)(1) of the ESEA, as measured by the academic assessments in mathematics as described in section 1111(b)(2) of the ESEA;

(e) CTE Concentrator proficiency in the challenging State academic standards adopted by the State under section 1111(b)(1) of the ESEA, as measured by the academic assessments in science as described in section 1111(b)(2) of the ESEA;

(f) At least one of the following:

(i) The percentage of CTE Concentrators graduating from high school having attained a Recognized Postsecondary Credential;

(ii) The percentage of CTE Concentrators graduating from high school having attained postsecondary credits in the relevant CTE program or Program of Study earned through a Dual or Concurrent Enrollment Program or another Credit Transfer Agreement; or

(iii) The percentage of CTE Concentrators graduating from high school having participated in Work-Based learning;

(g) The percentage of CTE Concentrators who, in the second quarter after exiting from secondary education, are in postsecondary education or advanced training, are in military service or a service program that receives assistance under title I of the National and Community Service Act of 1990 (42 U.S.C. 12511 et seq.), are volunteers as described in section 5(a) of the Peace Corps Act (22 U.S.C. 2504(a)), or are employed; and

(h) The percentage of CTE Concentrators in CTE programs and Programs of Study that lead to nontraditional fields.

The core indicators of performance for CTE Concentrators at the postsecondary level are—

(a) The percentage of CTE Concentrators who, during the second quarter after program completion, remain enrolled in postsecondary education, are in advanced training, military service, or a service program that receives assistance under title I of the National and Community Service Act of 1990 (42 U.S.C. 12511 et seq.), are volunteers as described in section 5(a) of the Peace Corps Act (22 U.S.C. 2504(a)), or are placed or retained in employment;

(b) The percentage of CTE Concentrators who receive a Recognized Postsecondary Credential during participation in or within one year of program completion; and

(c) The percentage of CTE Concentrators in CTE programs and Programs of Study that lead to nontraditional fields.

Project-Specific Performance Measures:

Applicants must propose project-specific Performance Measures and Performance Targets consistent with the objectives of the proposed project.

Applications must provide the following information as directed under 34 CFR 75.110(b) and (c):

(a) Performance Measures. How each proposed Performance Measure would accurately measure the performance of the project and how the proposed Performance Measures would be consistent with the Performance Measures established for the program funding the competition.

(b) Baseline data.

(i) Why each proposed Baseline is valid; or

(ii) If the applicant has determined that there are no established Baseline data for a particular Performance Measure, an explanation of why there is no established Baseline and of how and when, during the project period, the applicant would establish a valid Baseline for the Performance Measure.

(c) Performance Targets. Why each proposed Performance Target is ambitious yet achievable compared to the Baseline for the Performance Measure and when, during the project period, the applicant would meet the Performance Target(s).

(d) Data collection and reporting.

(i) The data collection and reporting methods the applicant would use and why those methods are likely to yield reliable, valid, and meaningful performance data; and

(ii) The applicant's capacity to collect and report reliable, valid, and meaningful performance data, as evidenced by high-quality data collection, analysis, and reporting in other projects or research.

All grantees must submit an annual performance report with information that is responsive to these Performance Measures.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact person listed under FOR FURTHER INFORMATION CONTACT. If you use a TDD or a TTY, call the FRS, toll free, at 1-800-877-8339.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Dated: April 10, 2019.
Scott Stump,
Assistant Secretary for Career, Technical, and Adult Education.

[FR Doc. 2019-07456 Filed 4-12-19; 8:45 am]

BILLING CODE 4000-01-P